DEPARTMENT OF THE INTERIOR

Bureau of Land Management

[LLCA948000.L16100000.PP0000.15XL1109AF.LXSILITI0000]

Notice of Availability of the Draft Central Coast Resource Management Plan Amendment and Draft Environmental Impact Statement for Oil and Gas Leasing and Development, California

AGENCY: Bureau of Land Management, Interior.

ACTION: Notice.

SUMMARY: In accordance with the National Environmental Policy Act of 1969, as amended, and the Federal Land Policy and Management Act of 1976, as amended, the Bureau of Land Management (BLM) has prepared a Draft Resource Management Plan (RMP) Amendment and Draft Environmental Impact Statement (EIS) for Oil and Gas Leasing and Development for the Central Coast Field Office and by this notice is announcing the opening of the comment period.

DATES: To ensure that comments will be considered, the BLM must receive written comments on the Draft RMP Amendment/Draft EIS within 90 days following the date the Environmental Protection Agency publishes its notice of the Draft RMP Amendment/Draft EIS in the Federal Register. The BLM will announce future meetings or hearings and any other public participation activities at least 15 days in advance through public notices, media releases, and/or mailings.

ADDRESSES: You may submit comments related to the Draft Central Coast RMP Amendment and Draft EIS for Oil and Gas Leasing by any of the following methods:

• Email: BLM_CA_OGEIS@blm.gov

• Fax: 916-978-4388

• Mail: BLM, California State Office; Attn: CCFO O&G Leasing DEIS; 2800 Cottage Way, Rm. W-1623; Sacramento, CA 95825

Copies of the Central Coast Draft RMP Amendment and Draft EIS for Oil and Gas Leasing are available in the Central Coast Field Office, formerly the Hollister Field Office, at 940 2nd Avenue, Marina, CA 93933; the California State Office at 2800 Cottage Way, Rm. W-1623, Sacramento, CA 95825; and at the BLM's Web site www.blm.gov/ca/eis-og.

FOR FURTHER INFORMATION CONTACT: Melinda Moffitt, Project Manager, telephone: 916-978-4376; address: 2800 Cottage Way, Room W-1618, Sacramento, CA 95825; email: mmoffitt@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Draft RMP Amendment and Draft EIS describe and analyze alternatives for the planning and management of oil and gas leasing and development on public lands and Federal mineral estate administered by the BLM, Central Coast Field Office (CCFO). The former Hollister Field Office (HFO) moved to a new location in Marina, California and is now called the Central Coast Field Office. The Planning Area is located in central California and comprises approximately 6.8 million acres of land. Within the Planning Area, the BLM administers approximately 284,000 acres of surface estate and 793,000 acres of Federal mineral estate. Planning decisions in the RMP will apply only to the BLM-administered public lands and Federal mineral estate in the Planning Area.

Through this RMP Amendment, the BLM is revising the existing HFO Resource Management Plan for the Southern Diablo Mountain Range and Central Coast of California (2007) to analyze the effects of alternative oil and gas management approaches on lands with Federal mineral estate. New circumstances and information regarding oil and gas exploration and development, including unconventional reservoirs and well stimulation techniques, have prompted the BLM to prepare this Draft RMP Amendment and Draft EIS.

In 2014, the BLM conducted scoping to solicit input from the public and interested agencies on the nature and extent of issues and impacts to be addressed. Fifteen planning issues were identified through the scoping process: (1) Water resources; (2) Health and safety; (3) Vegetation and wildlife; (4) Air quality; (5) Climate change; (6) Geology and seismicity; (7) Soil resources; (8) Socioeconomics; (9) Traffic; (10) Tribal and cultural resources; (11) Environmental justice; (12) Land use; (13) Livestock grazing; (14) Recreation; and (15) Visual resources. These identified scoping issues will be used by the BLM to assist in the development of alternative management strategies for oil and gas management in the RMP Amendment.

To assist the agency decision maker and the public in focusing on appropriate solutions to planning issues, the Draft RMP Amendment and Draft EIS considers five alternative RMPs.

Alternative A. Alternative A would continue current management under the existing 2007 HFO RMP. All Federal mineral estate would be available for oil and gas leasing, except for designated wilderness, wilderness study areas, Fort Ord National Monument, and the Clear Creek Serpentine Area of Critical Environmental Concern (ACEC), which are closed under the 2007 HFO RMP. No Surface Occupancy (NSO) stipulations would be applied in ACECs and Recreation and Public Purpose (R&PP) leases. The Endangered Species stipulation from the 2007 HFO RMP would apply in all areas open to leasing.

Alternative B. Under Alternative B, Federal mineral estate within the boundaries of oil and gas fields plus a 0.5-mile buffer currently identified by the California Division of Oil, Gas, and Geothermal Resources (DOGGR) would be available for leasing. Other areas would be closed to oil and gas leasing, including all National Conservation Lands. Controlled Surface Use (CSU) stipulations would apply to all lands open to leasing.

Alternative C (Preferred Alternative). Under Alternative C, unless currently closed under the 2007 HFO RMP, Federal mineral estate would be open to leasing within high oil and gas potential areas or within the boundaries of oil and gas fields plus a 0.5-mile buffer currently identified by DOGGR, with the exception of core population areas of the kangaroo rat in the vicinity of Panoche, Griswold-Tumey and Ciervo Hills which are closed to leasing. CSU stipulations would apply to all lands open to leasing. NSO stipulations would apply to some lands open to leasing, including: (1) Threatened and endangered species critical habitat; (2) BLM-developed recreation and administrative sites; and (3) Special status split estate lands (e.g., State parks, county parks, conservation easements, land trusts, and scenic designations).

Alternative D. Under Alternative D, unless currently closed under the 2007 HFO RMP, Federal mineral estate underlying BLM surface estate would be available for leasing. All Federal mineral estate underlying split estate lands and the Ciervo Panoche Natural Area (both BLM surface and split-estate lands) would be closed to leasing. CSU stipulations would apply to all lands open to leasing. NSO stipulations would be applied in ACECs and R&PP leases.

Alternative E. Under Alternative E, unless currently closed under the 2007 HFO RMP, Federal mineral estate outside of a California Department of Water Resources Bulletin 118, Groundwater Basin or Sub-basin, would be available for leasing. CSU stipulations would apply to all lands open to leasing. NSO stipulations would apply to some lands open to leasing, including: (1) 12-digit Hydrologic Unit Codes (HUCs) intersecting EPA impaired, perennial surface waters (BLM surface and split estate); (2) 12-digit HUCs intersecting non-impaired, perennial surface waters that intersect split estate; (3) 12-digit HUC subwatersheds with the highest aquatic intactness score; (4) 0.25 miles from non-impaired, perennial surface waters; and (5) 0.25 miles from eligible Wild and Scenic Rivers.

Under each action alternative, CSU stipulations would apply to all lands open to leasing. The CSU stipulations would mitigate impacts to sensitive resources such as protected, sensitive, and priority species, critical and priority habitat, cultural resources, and water resources by requiring special operational constraints on surface use to protect these resources.

ACECs. There are three ACECs managed by the CCFO. The Clear Creek Serpentine ACEC is approximately 31,000 acres, the Panoche/Coalinga ACEC is approximately 56,000 acres, and the Joaquin Rocks ACEC is approximately 8,000 acres. No boundaries of these ACECs are being modified by this Draft RMP Amendment. The Clear Creek Serpentine ACEC was closed to leasing under the 2007 HFO RMP and would remain closed under all alternatives. Under Alternative A, NSO stipulations would apply to the Panoche/Coalinga and Joaquin Rocks ACECs. Under Alternative B, only those portions of the ACECs within existing oil and gas fields—approximately 300 acres of the Joaquin Rocks ACEC and 11,000 acres of the Panoche/Coalinga ACEC—would be open to leasing with CSU stipulations. The majority of both of these ACECs would be closed under Alternative B. Under Alternative C, the Joaquin Rocks ACEC and almost half of the Panoche/Coalinga ACEC would be open to leasing with CSU stipulations; the other half of the Panoche/Coalinga ACEC would be closed to leasing. Under Alternative D, approximately 30,000 acres in the Panoche/Coalinga ACEC would be closed to leasing; NSO stipulations would apply to the remainder of the Panoche/Coalinga ACEC and to the Joaquin Rocks ACEC. Under Alternative E, the Joaquin Rocks ACEC and about half of the Panoche/Coalinga ACEC would be open to leasing with CSU stipulations. Of the remainder of the Panoche/Coalinga ACEC, roughly 14,000 acres would be closed to leasing and NSO stipulations would apply to nearly 4,000 acres.

Non-NSO leases. The Draft RMP Amendment and Draft EIS impact analysis will also address 14 leases within the CCFO that do not contain NSO stipulations (non-NSO leases), per a July 2014 Federal court settlement agreement to resolve the disputes set forth in Center for Biological Diversity v. Bureau of Land Management, Case No. 11-06174 and Case No. 13-1749. While the BLM will select a Preferred Alternative as part of its plan-level decision for determining which BLM-managed lands or subsurface Federal minerals are open or closed to oil and gas leasing, the determination for the 14 leases will be an implementation-level decision. For each of the 14 leases, the implementation decision will determine whether the leases should be issued, and, if so, whether the current stipulations are sufficient or if additional stipulations are needed.

Alternative C has been identified as the Preferred Alternative as described in 40 CFR 1502.14(e). Identification of this alternative, however, does not represent final agency direction, and the Proposed RMP may reflect changes or adjustments based on information received during public comment, new information, or changes in BLM policies or priorities. The Proposed RMP may include objectives and actions described in the other analyzed alternatives. For this reason, the BLM invites and encourages comments on all alternatives, objectives, and actions described in the Draft RMP Amendment and Draft EIS.

Please note that public comments and information submitted, including names, street addresses, and email addresses of persons who submit comments, will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2.

James V. Scrivner,
Deputy State Director, Energy and Minerals.

[FR Doc. 2016-31975 Filed 1-5-17; 8:45 am]

BILLING CODE 4310-40-P